NUCLEAR REGULATORY COMMISSION

Draft Regulatory Guides; Issuance, Availability

AGENCY: Nuclear Regulatory Commission.

ACTION: Notice of Availability; Correction.

SUMMARY: This document corrects a notice relating to the availability of Draft Regulatory Guides DG-1102 and DG-1103, appearing in the Federal Register on October 31, 2000 (65 FR 65024). This action is necessary to correct the accession numbers listed in the notice for viewing the electronic copies of the draft guides.

FOR FURTHER INFORMATION CONTACT: John P. Segala, Division of Systems Safety and Analysis, Office of Nuclear Reactor Regulation, U.S. Nuclear Regulatory Commission, Washington, DC 20555-0001, telephone 301-415-7162 (e-mail: jps1@nrc.gov).

In the Federal Register dated October 31, 2000, page 65024, second column, third paragraph, fourth sentence, the third and fourth lines are corrected to read as follows: ML003756180 for DG-1102 and ML003756467 for DG-1103.

Dated at Rockville, Maryland, this 1st day of November, 2000.
For the Nuclear Regulatory Commission.
David L. Meyer,
Chief, Rules and Directives Branch, Division of Administrative Services, Office of Administration.

[FR Doc. 00-28497 Filed 11-6-00; 8:45 am]

BILLING CODE 7590-01-P